DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Employment Inquiry.

OMB Control Number: 0607-0139.

Form Number(s): BC-170A, BC-170B, BC-170D.

Type of Request: Extension of Previously Approved Collection.

Number of Respondents: 65,000.

Average Hours per Response: 15 minutes.

Burden Hours: 16,250.

Needs and Uses: The Census Bureau proposed using a revised employment form, however based upon program needs we have decided not to use the revised form at this time. We will use the existing form for our recruitment needs in 2015 and explore revising the employment inquiry form in the future.

Job applicants complete the BC-170 (A, B, and D) before, or at the time, they are tested. Selecting officials will review the information shown on the form and determine the applicant's employment suitability. Failure to collect this information could result in the hiring of unsuitable and/or unqualified workers.

Information quality is an integral part of the pre-dissemination review of the information disseminated by the Census Bureau (fully described in the Census Bureau's Information Quality Guidelines). Information quality is also integral to the information collections conducted by the Census Bureau and is incorporated into the clearance process required by the Paperwork Reduction Act.

Affected Public: Applicants for temporary jobs in office and field positions.

Respondent's Obligation: Mandatory to apply for temporary positions.

Legal Authority: Title 13, United States Code, Section 23 a and c.

This information collection request may be viewed at www.reginfo.gov .Follow the instructions to view Department of Commerce collections currently under review by OMB.

Written comments and recommendations for the proposed information collection should be sent within 30 days of publication of this notice to OIRA_Submission@omb.eop.gov or fax to (202) 395-5806.

Dated: December 24, 2014.
Glenna Mickelson,
Management Analyst, Office of the Chief Information Officer.

[FR Doc. 2014-30627 Filed 12-30-14; 8:45 am]

BILLING CODE 3510-07-P